SECURITIES AND EXCHANGE COMMISSION

[Release No. 34-68458; File No. SR-NYSEArca-2012-139]

Self-Regulatory Organizations; NYSE Arca, Inc.; Notice of Filing of Proposed Rule Change To List and Trade First Trust Preferred Securities and Income ETF Under NYSE Arca Equities Rule 8.600

December 18, 2012.

Correction

In notice document 2012-30888 appearing on pages 76148-76155 in the issue of December 26, 2012, make the following correction:

On page 76155, in the first column, in the 14th line, “January 14, 2013” should read “January 16, 2013”.

[FR Doc. C1-2012-30888 Filed 1-7-13; 8:45 am]

BILLING CODE 1505-01-D